DEPARTMENT OF HOUSING AND URBAN DEVELOPMENT

[Docket No. FR-6473-N-01]

Request for Information for HUD's Choice Neighborhoods Grant Selection Process and Award Implementation

AGENCY: Office of the Assistant Secretary for Public and Indian Housing, Department of Housing and Urban Development (HUD).

ACTION: Request for information.

SUMMARY: The Department of Housing and Urban Development (HUD) seeks public input on the Choice Neighborhoods (CN) grant program. The purpose of this Request for Information (RFI) is to better understand the opportunities and barriers to applying for and subsequently managing Choice Neighborhoods Planning and Implementation Grants. HUD is especially interested in comments to reduce or eliminate barriers with the goal of improving the application process for all prospective applicants and expediting the expenditure of grant funds for awardees.

DATES: Comment Due Date: October 11, 2024. Late-filed comments will be considered to the extent practicable.

ADDRESSES: HUD invites interested persons to submit comments responsive to this RFI. All submissions must refer to the docket number and title of the RFI. Commenters are encouraged to identify the topic and number of the specific question(s) to which they are responding. Comments may include the name(s) of the person(s) or organization(s) filing the comment; however, because any responses received by HUD will be publicly available, comments should not include any personally identifiable information or confidential commercial information. There are two methods for submitting public comments.

1. Electronic Submission of Comments. Comments may be submitted electronically through the Federal eRulemaking Portal at www.regulations.gov. HUD strongly encourages commenters to submit comments electronically through www.regulations.gov. Electronic submission of comments allows the commenter maximum time to prepare and submit a comment, ensures timely receipt by HUD, and enables HUD to make comments immediately available to the public. Comments submitted electronically through www.regulations.gov can be viewed by other commenters and interested members of the public. Commenters should follow the instructions provided on that website to submit comments electronically.

2. Submission of Comments by Mail. Comments may be submitted by mail to the Regulations Division, Office of General Counsel, Department of Housing and Urban Development, 451 7th Street SW, Room 10276, Washington, DC 20410-0500. To receive consideration as a public comment, comments must be submitted through one of the two methods specified above.

Public Inspection of Public Comments. HUD will make all properly submitted comments and communications available for public inspection and copying during regular business hours at the above address. Due to security measures at the HUD Headquarters building, you must schedule an appointment in advance to review the public comments by calling the Regulations Division at 202-708-3055 (not a toll-free number). HUD welcomes and is prepared to receive calls from individuals who are deaf or hard of hearing, as well as individuals with speech or communication disabilities. To learn more about how to make an accessible telephone call, please visit https://www.fcc.gov/consumers/guides/telecommunications-relay-service-trs. Copies of all comments submitted are available for inspection and downloading at www.regulations.gov.

FOR FURTHER INFORMATION CONTACT: Chris White, Neighborhood and Community Investment Specialist, Choice Neighborhoods Program, Office of Public Housing Investments, Office of the Assistant Secretary for Public and Indian Housing, Department of Housing and Urban Development, 451 7th Street SW, Washington, DC 20410, telephone 202-402-5599 (not a toll-free number), email W.Chris.White@hud.gov. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

Choice Neighborhoods is a competitive grant program focused on the revitalization of severely distressed public and/or HUD-assisted housing and the surrounding neighborhood. Since 2010, Congress has funded the Choice Neighborhoods Program through appropriations acts.¹ The program and funding authority for the Choice Neighborhoods Program is the authorizing statute for HOPE VI, Section 24 of the U.S. Housing Act of 1937 (42 U.S.C. 1437v), as applied by annual appropriation acts.²

¹ The Department of Housing and Urban Development Appropriations Act, 2010 (Pub. L. 111-117, enacted on December 16, 2009).

² The Department of Housing and Urban Development Appropriations Act, 2010 (Pub. L. 111-117, enacted on December 16, 2009).

HUD awards two types of Choice Neighborhoods grants annually: Implementation Grants and Planning Grants. Implementation Grants provide Public Housing Agencies (PHAs), local governments, and tribal entities up to $50 million to replace severely distressed HUD-assisted housing with new, high-quality, mixed-income housing. Implementation Grants also fund companion investments in the surrounding neighborhood and resident supportive services. Planning Grants provide PHAs, local governments, Tribal entities, and nonprofits up to $500,000 to create a community-driven “Transformation Plan” that addresses the program's “Housing, People, and Neighborhood” goals (see FY2023 Choice Neighborhoods Implementation Grants Notice of Funding Opportunity (NOFO) ³ and the FY2024 Choice Neighborhoods Planning Grant NOFO).⁴

³ https://www.hud.gov/sites/dfiles/PIH/images/FY23ChoiceImplementationFR-6700-N-34(mod).pdf.

⁴ https://www.hud.gov/sites/dfiles/PIH/documents/FY24_CN_Planning_Grants_NOFO_FR-6800-N-38.pdf.

The Choice Neighborhoods NOFOs outline the program's three core goals and objectives.

1. Housing Goal and Objectives

Housing Goal. The housing goal is to replace severely distressed public and HUD-assisted housing with high-quality mixed-income housing that is well-managed and responsive to the needs of the surrounding neighborhood.

Housing Objectives. Housing transformed with the assistance of Choice Neighborhoods should be:

• Well-Managed and Financially Viable. Developments that have budgeted appropriately for the rental income that can be generated from the project and meet or exceed industry standards for quality management and maintenance of the property.

• Mixed-Income. Housing that is affordable to families and individuals with a broad range of incomes including low-income, moderate-income, and market rate/unrestricted.

• Energy Efficient, Climate Resilient, and Sustainable. Housing that has low per unit energy and water consumption and is built to be resilient to local disaster risk and other climate impacts.

• Accessible, Healthy, and Free from Discrimination. Housing that is well-designed, meets federal accessibility requirements and embraces concepts of visitability and universal design, has healthy indoor air quality, has affordable broadband internet access, and is free from discrimination.

2. People Goal and Objectives

People Goal. The people goal is to improve outcomes of households living in the target housing related to income and employment, health, and education.

People Objectives. Residents who live in the target and replacement housing before and after redevelopment benefit from:

• Effective Education. A high level of resident access to high-quality early learning programs and services so children enter kindergarten ready to learn and quality schools and/or educational supports that ultimately prepare students to graduate from high school, college- and/or career-ready.

• Income and Employment Opportunities. The income of residents, particularly wage income for non-elderly/non-disabled adult residents, increases over time.

• Quality Health Care. Residents have increased access to health services and have improved physical and mental health over time.

• Housing Location, Quality, and Affordability. Residents of the target housing who, by their own choice, do not return to the development have housing and neighborhood opportunities as good as or better than the opportunities available to those who occupy the redeveloped site.

3. Neighborhood Goal and Objectives

Neighborhood Goal. The neighborhood goal is to create the conditions necessary for public and private reinvestment in distressed neighborhoods to offer the kinds of amenities and assets, including safety, good schools, and commercial activity, that are important to families' choices about their community.

Neighborhood Objectives. Through investments catalyzed by Choice Neighborhoods, the neighborhood will have improved:

• Housing Quality and Variety. The neighboring housing has a lower vacancy/abandonment rate, is high quality and well-maintained, and has an appropriate mix of rental and homeownership units to meet resident needs. The neighborhood better supports families with a broad range of incomes.

• Economic Opportunity. The neighborhood attracts and maintains a diverse mix of businesses and employers to create meaningful jobs and economic opportunities for residents, respond to local needs, and address long-term disinvestment.

• Community Assets and Amenities. The neighborhood includes community amenities found in higher opportunity areas, such as grocery stores and fresh food options, retail goods and services, financial institutions, medical and health facilities, parks and greenspace, public transit, high-quality early learning programs, and high performing public schools.

• Community Confidence. The neighborhood image reflects a healthy, livable, and equitable community that honors its history and embraces a positive outlook for the future. There is an enhanced sense of place and a visibly improved built environment. Long-term residents choose to stay and have the support to do so, and new residents likewise choose to live in the revitalized neighborhood.

• Public Safety. Residents feel safer in their homes and spending time in the revitalized community and the neighborhood has lower crime rates than prior to redevelopment.⁵

⁵ See the FY2024 Choice Neighborhood Planning Grant NOFO page 4-6 for program goals and objectives. https://www.hud.gov/sites/dfiles/PIH/documents/FY24_CN_Planning_Grants_NOFO_FR-6800-N-38.pdf.

II. Solicitation of Public Comments

This RFI seeks input from the public regarding the opportunities and barriers to applying for and subsequently implementing Choice Neighborhoods grants. Information from this RFI may be used to improve the NOFOs and application submission process for Choice Neighborhoods. HUD may also consider information gathered under this RFI to simplify or streamline certain non-regulatory requirements or processes for Choice Neighborhoods grantees. Therefore, HUD is especially interested in comments to reduce or eliminate barriers during the application and award implementation process and/or during the grant performance period.

Information will also be used to inform marketing strategies to promote the Choice Neighborhoods program to eligible applicants. HUD is particularly interested in expanding the program's reach to communities of all sizes, including large urban areas, mid-sized cities, small towns, rural areas and tribal jurisdictions. Therefore, HUD is interested in feedback from a diversity of stakeholders to ensure the program is accessible to these groups during the application period, and that they are positioned for success post award.

To better understand applicant and grantee experiences with Choice Neighborhoods, this RFI is seeking comments on program NOFOs, application requirements, post-award grant requirements, and additional considerations on the program's goals and their alignment with existing needs across different communities. To assist HUD in its review of the comments received, the Department categorizes its questions into the following topics: A. Pre-Award: Application Experience and NOFO Requirements; B. Post-Award: Program Experience and Requirements; and C. General. Public comments outside of these topics are also welcome. For each topic, questions present the types of stakeholder insights and information related to the Choice Neighborhoods Program that the Department requests, as applicable.

A. Pre-Award: Application Experience and NOFO Requirements

1. Please describe your or your organization's experience, if any, with the current Choice Neighborhoods Planning or Implementation grant application process or program. Are you representing a current grantee, past applicant, industry group, or partner?

2. If you previously applied for a Choice Neighborhoods grant, what worked well through the application process? Are there any rating factors or requirements in the Planning or Implementation Grants NOFOs that are particularly important to maintain?

3. Are there any Choice Neighborhoods application requirements in Planning or Implementation Grants NOFOs that are unnecessary or complicated, and could be streamlined or removed? Please provide any recommendations for how such requirements should be revised. Be specific.

4. Are there any Choice Neighborhoods application or NOFO requirements that make an application difficult or impossible? If you consider the size of your city or community as a factor, please indicate and describe how.

5. Do you have difficulty understanding any portion or section of the Choice Neighborhoods NOFOs or program requirements? Are there particular areas that you feel could be articulated more clearly or in plain English?

6. What steps can HUD take to support applicants through the planning, preparation, and submission of an application? Example suggestions could include public briefings, NOFO webinars, marketing/promotional materials in plain English, and other publicly available materials.

7. If you have ever considered applying for a Choice Neighborhoods Planning or Implementation Grant and elected not to do so, why did you not apply? What specific concerns, if any, do you have about the process and how might HUD address those concerns?

8. For Tribal Entities, are there specific requirements in the NOFO which make it challenging for you to apply for a grant?

9. For Tribal Entities, are there inconsistencies among the housing, people or neighborhood goals and objectives of the Choice Neighborhoods program, as outlined in the NOFO, and the goals and objectives of your tribe, which impact your ability to apply for and receive a Choice Neighborhoods grant?

B. Post-Award: Program Experience and Requirements

10. Are there any program goals, processes, policies, or requirements that are working well? Are there any processes or requirements with the Planning or Implementation Grants that are particularly important to maintain?

11. Are there any Choice Neighborhoods program requirements affecting Planning or Implementation grantees that are unnecessary or complicated, and could be streamlined or removed? (e.g., budget revision process, CN Inform data system, Planning Grant Transformation Plan deliverables). Please provide recommendations for how such requirements could be revised. Be specific.

12. Are there any processes that, if streamlined, would allow grantees to meet funding deadlines and thus expedite grant outcomes (e.g., housing construction, neighborhood improvements, provision of services)? Please provide recommendations for how such requirements could be revised. Be specific.

13. Do you have any other suggestions for improving the day-to-day implementation of a Choice Neighborhoods Planning or Implementation Grant?

14. How does the Choice Neighborhoods' core “housing” goal of creating a mixed-income community fit with your local housing goals?

15. Does your community have significant barriers to any of the Choice Neighborhoods' housing objectives or program requirements? Are there any housing goals or requirements that are particularly burdensome?

16. How does the Choice Neighborhoods' core “people” goal fit with your community's supportive services, human capital, or resident engagement goals? Are there any people goals or requirements that are particularly burdensome?

17. Does the Choice Neighborhoods' core “neighborhood” goal fit with your community's neighborhood improvement goals? Are there any neighborhood goals or requirements that are particularly burdensome?

C. General

18. How did you hear about the Choice Neighborhoods program (e.g., word-of-mouth, HUD staff, conferences)?

19. If you received a Choice Neighborhoods Planning or Implementation grant, would you recommend that others apply? Why or why not?

20. Please provide any additional comments or suggestions about the Choice Neighborhoods program implementation or application selection.

Thank you for participating in this request for information. HUD looks forward to reviewing all responses received.

Dominique Blom,
General Deputy Assistant Secretary, Office of Public and Indian Housing.

[FR Doc. 2024-17822 Filed 8-9-24; 8:45 am]

BILLING CODE 4210-67-P